DEPARTMENT OF TRANSPORTATION

Office of the Secretary

Aviation Proceedings, Agreements Filed the Week Ending July 22, 2005

The following Agreements were filed with the Department of Transportation under the provisions of 49 U.S.C. 412 and 414. Answers may be filed within 21 days after the filing of the application.

Docket Number: OST-2005-21950.

Date Filed: July 20, 2005.

Parties: Members of the International Air Transport Association.

Subject: Passenger Agency Conference held in Singapore on 07-09 June 2005. Memorandum: Finally Adopted Resolutions rl-r26. Minutes: PAC/Reso/437 dated 13 July 2005. Intended effective date: 1 January 2006.

Renee V. Wright,
Program Manager, Docket Operations, Federal Register Liaison.

[FR Doc. 05-15918 Filed 8-10-05; 8:45 am]

BILLING CODE 4910-62-P